DEPARTMENT OF TRANSPORTATION

Federal Aviation Administration

Aviation Rulemaking Advisory Committee—New Task

AGENCY: Federal Aviation Administration (FAA), DOT.

ACTION: Notice of withdrawal of task assignment for the Aviation Rulemaking Advisory Committee (ARAC).

SUMMARY: The FAA has withdrawn a task assigned to the Aviation Rulemaking Advisory Committee (ARAC) concerning commercial air tours. This notice is to inform the public of the FAA's decision to withdraw this task.

FOR FURTHER INFORMATION CONTACT: Katherine Haley, Office of Rulemaking, Federal Aviation Administration, 800 Independence Avenue SW., Washington, DC 20591; telephone: 202-493-5708, facsimile: 202-267-5075; email: Katherine.L.Haley@faa.gov.

SUPPLEMENTARY INFORMATION:

Background

The FAA established ARAC to provide advice and recommendations to the FAA Administrator on the FAA's rulemaking activities. ARAC's objectives are to improve the development of the FAA's regulations by providing information, advice, and recommendations related to aviation issues.

On July 15, 2009, the FAA tasked ARAC (74 FR 34390) to provide advice and recommendations on a maintenance quality assurance system, a maintenance training program and a required inspection program for operators and air carriers that conduct air tours and operate under parts 91 and 135 (aircraft type certificated for a passenger seating configuration, excluding any pilot seat, of 9 or fewer seats). That tasking was in response to two recommendations from the National Transportation Safety Board (NTSB) (A-08-32 and A-08-33) and an FAA recommendation on air tour accidents. The Commercial Air Tours Maintenance (CATM) working group formed and met between November 2009 and December 2010 to address the ARAC tasking. On December 16, 2010, the CATM working group presented the findings and recommendations to the ARAC Executive Committee. One of the recommendations was to develop an Advisory Circular (AC) to create a voluntary accreditation program modeled after the AC 00-56A, Voluntary Industry Distributor Accreditation Program. The FAA accepted the recommendations on February 1, 2011.

In December 2011, the FAA assigned ARAC a new task to develop a comprehensive program of voluntary accreditation for commercial air tour operators that are not required under parts 91 and 135 of Title 14 of the Code of Federal Regulations (14 CFR), to maintain their aircraft under a continuous airworthiness maintenance program (CAMP). This new task was the FAA's response to one of the CATM recommendations.

The notice informing the public of this new ARAC activity published in the Federal Register on December 27, 2011 (76 FR 81009), and included a request for volunteers for the Commercial Air Tour Voluntary Accreditation Program working group. The time period to volunteer expired on January 26, 2011. We received minimal interest from the public, and have decided to withdraw the task due to a lack of adequate representation on the working group.

This notice informs the public of the withdrawal of the ARAC task that would have been assigned to the Commercial Air Tour Voluntary Accreditation Program Working Group.

Issued in Washington, DC, on February 16, 2012.
Pamela Hamilton-Powell,
Executive Director, Aviation Rulemaking Advisory Committee.

[FR Doc. 2012-4175 Filed 2-22-12; 8:45 am]

BILLING CODE 4910-13-P